DEPARTMENT OF HOMELAND SECURITY

Federal Emergency Management Agency

44 CFR Part 64

[Docket ID FEMA-2008-0020; Internal Agency Docket No. FEMA-8085]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region II
New York:
Blooming Grove, Town of, Orange County | 360608 | May 8, 1975, Emerg; November 15, 1985, Reg; August 3, 2009, Susp | Aug. 3, 2009 | Aug. 3, 2009.
Chester, Town of, Orange County | 360870 | March 31, 1975, Emerg; September 18, 1986, Reg; August 3, 2009, Susp | ......*do | Do.
Chester, Village of, Orange County | 361541 | July 23, 1975, Emerg; September 18, 1986, Reg; August 3, 2009, Susp | ......do | Do.
Cornwall, Town of, Orange County | 360611 | April 15, 1975, Emerg; September 30, 1982, Reg; August 3, 2009, Susp | ......do | Do.
Cornwall on Hudson, Village of, Orange County | 360610 | July 18, 1974, Emerg; August 2, 1982, Reg; August 3, 2009, Susp | ......do | Do.
Crawford, Town of, Orange County | 361250 | October 1, 1975, Emerg; September 30, 1982, Reg; August 3, 2009, Susp | ......do | Do.
Florida, Village of, Orange County | 360613 | July 28, 1975, Emerg; December 4, 1986, Reg; August 3, 2009, Susp | ......do | Do.
Goshen, Town of, Orange County | 360614 | April 4, 1975, Emerg; April 30, 1986, Reg; August 3, 2009, Susp | ......do | Do.
Goshen, Village of, Orange County | 361571 | July 7, 1975, Emerg; April 30, 1986, Reg; August 3, 2009, Susp | ......do | Do.
Greenwood Lake, Village of, Orange County | 360616 | January 23, 1974, Emerg; June 15, 1979, Reg; August 3, 2009, Susp | ......do | Do.
Highland Falls, Village of, Orange County | 361453 | July 2, 1974, Emerg; June 25, 1976, Reg; August 3, 2009, Susp | ......do | Do.
Highlands, Township of, Orange County | 361251 | June 9, 1975, Emerg; November 30, 1979, Reg; August 3, 2009, Susp | ......do | Do.
Kiryas Joel, Village of, Orange County | 361610 | August 31, 1994, Emerg; June 14, 2002, Reg; August 3, 2009, Susp | ......do | Do.
Middletown, City of, Orange County | 360619 | May 14, 1975, Emerg; March 2, 1983, Reg; August 3, 2009, Susp | ......do | Do.
Monroe, Village of, Orange County | 360622 | March 10, 1975, Emerg; January 6, 1982, Reg; August 3, 2009, Susp | ......do | Do.
Montgomery, Town of, Orange County | 360623 | July 22, 1975, Emerg; October 16, 1984, Reg; August 3, 2009, Susp | ......do | Do.
Montgomery, Village of, Orange County | 360624 | May 16, 1974, Emerg; October 16, 1984, Reg; August 3, 2009, Susp | ......do | Do.
New Windsor, Town of, Orange County | 360628 | March 1, 1974, Emerg; December 15, 1978, Reg; August 3, 2009, Susp | ......do | Do.
Newburgh, City of, Orange County | 360626 | June 9, 1975, Emerg; June 5, 1985, Reg; August 3, 2009, Susp | ......do | Do.
Newburgh, Town of, Orange County | 360627 | July 22, 1975, Emerg; June 5, 1985, Reg; August 3, 2009, Susp | ......do | Do.
Tuxedo, Town of, Orange County | 360631 | June 2, 1975, Emerg; April 15, 1985, Reg; August 3, 2009, Susp | ......do | Do.
Unionville, Village of, Orange County | 360633 | July 2, 1975, Emerg; July 6, 1984, Reg; August 3, 2009, Susp | ......do | Do.
Wallkill, Town of, Orange County | 360634 | March 28, 1975, Emerg; September 4, 1986, Reg; August 3, 2009, Susp | ......do | Do.
Warwick, Town of, Orange County | 360636 | August 5, 1974, Emerg; October 15, 1985, Reg; August 3, 2009, Susp | ......do | Do.
Washingtonville, Village of, Orange County | 360638 | August 11, 1972, Emerg; April 1, 1981, Reg; August 3, 2009, Susp | ......do | Do.
Woodbury, Village of, Orange County | 360640 | March 13, 1975, Emerg; March 18, 1987, Reg; August 3, 2009, Susp | ......do | Do.
Region IV
Alabama:
Blount County, Unincorporated Areas | 010230 | July 22, 1987, Emerg; June 17, 1991, Reg; August 3, 2009, Susp | ......do | Do.
Blountsville, Town of, Blount County | 010371 | December 3, 2008, Emerg; NA, Reg; August 3, 2009, Susp | ......do | Do.
Oneonta, City of, Blount County | 010015 | July 15, 1975, Emerg; August 19, 1986, Reg; August 3, 2009, Susp | ......do | Do.
Snead, Town of, Blount County | 010227 | May 8, 2008, Emerg; NA, Reg; August 3, 2009, Susp | ......do | Do.
Kentucky:
Livingston, City of, Rockcastle County | 210202 | August 20, 1975, Emerg; June 17, 1986, Reg; August 3, 2009, Susp | ......do | Do.
McKee, City of, Jackson County | 210119 | March 31, 1975, Emerg; July 17, 1986, Reg; August 3, 2009, Susp | ......do | Do.
Mount Vernon, City of, Rockcastle County | 210374 | September 4, 1996, Emerg; NA, Reg; August 3, 2009, Susp | ......do | Do.
Spencer County, Unincorporated Areas | 210211 | August 8, 1975, Emerg; June 3, 1986, Reg; August 3, 2009, Susp | ......do | Do.
Taylorsville, City of, Spencer County | 210247 | September 26, 1975, Emerg; June 4, 1987, Reg; August 3, 2009, Susp | ......do | Do.
North Carolina:
Ahoskie, Town of, Hertford County | 370131 | May 13, 1974, Emerg; May 1, 1987, Reg; August 3, 2009, Susp | ......do | Do.
Cofield, Town of, Hertford County | 370409 | August 7, 2001, Emerg; NA, Reg; August 3, 2009, Susp | ......do | Do.
Hertford County, Unincorporated Areas | 370130 | October 6, 1995, Emerg; November 1, 1999, Reg; August 3, 2009, Susp | ......do | Do.
Murfreesboro, Town of, Hertford County | 370419 | March 12, 1980, Emerg; June 1, 1987, Reg; August 3, 2009, Susp | ......do | Do.
Winton, Town of, Hertford County | 370424 | August 3, 1979, Emerg; July 1, 1987, Reg; August 3, 2009, Susp | ......do | Do.
Tennessee:
Clifton, City of, Wayne County | 470200 | May 2, 1980, Emerg; March 4, 1988, Reg; August 3, 2009, Susp | ......do | Do.
Jackson, City of, Madison County | 470113 | April 18, 1974, Emerg; July 5, 1983, Reg; August 3, 2009, Susp | ......do | Do.
Madison County, Unincorporated Areas | 470112 | April 23, 1974, Emerg; July 5, 1983, Reg; August 3, 2009, Susp | ......do | Do.
Medon, Town of, Madison County | 470403 | NA, Emerg; November 1, 2007, Reg; August 3, 2009, Susp | ......do | Do.
Wayne County, Unincorporated Areas | 470199 | August 15, 2003, Emerg; June 1, 2005, Reg; August 3, 2009, Susp | ......do | Do.
Waynesboro, City of, Wayne County | 470201 | February 13, 1976, Emerg; January 16, 1987, Reg; August 3, 2009, Susp | ......do | Do.
Region V
Illinois: Barrington Hills, Village of, Cook, Kane, Lake, McHenry County | 170058 | April 3, 1975, Emerg; August 10, 1979, Reg; August 3, 2009, Susp | ......do | Do.
Indiana:
Allen County, Unincorporated Areas | 180302 | February 14, 1974, Emerg; September 28, 1990, Reg; August 3, 2009, Susp | ......do | Do.
Fort Wayne, City of, Allen County | 180003 | May 24, 1974, Emerg; April 3, 1985, Reg; August 3, 2009, Susp | ......do | Do.
Grabill, Town of, Allen County | 180499 | NA, Emerg; October 17, 1990, Reg; August 3, 2009, Susp | ......do | Do.
Huntertown, Town of, Allen County | 180005 | July 29, 1975, Emerg; November 2, 1983, Reg; August 3, 2009, Susp | ......do | Do.
Leo-Cedarville, Town of, Allen County | 180518 | NA, Emerg; February 9, 2000, Reg; August 3, 2009, Susp | ......do | Do.
Monroeville, Town of, Allen County | 180498 | NA, Emerg; October 17, 1990, Reg; August 3, 2009, Susp | ......do | Do.
Newhaven, City of, Allen County | 180004 | January 30, 1975, Emerg; July 18, 1983, Reg; August 3, 2009, Susp | ......do | Do.
Woodburn, City of, Allen County | 180500 | NA, Emerg; October 17, 1990, Reg; August 3, 2009, Susp | ......do | Do.
Region VI
Oklahoma:
Bixby, City of, Tulsa County | 400207 | March 6, 1974, Emerg; September 28, 1979, Reg; August 3, 2009, Susp | ......do | Do.
Broken Arrow, City of, Tulsa County | 400236 | November 27, 1974, Emerg; August 17, 1981, Reg; August 3, 2009, Susp | ......do | Do.
Collinsville, City of, Tulsa County | 400360 | November 21, 1975, Emerg; July 2, 1981, Reg; August 3, 2009, Susp | ......do | Do.
Glenpool, City of, Tulsa County | 400208 | February 6, 1975, Emerg; March 2, 1981, Reg; August 3, 2009, Susp | ......do | Do.
Jenks, City of, Tulsa County | 400209 | November 1, 1974, Emerg; February 17, 1982, Reg; August 3, 2009, Susp | ......do | Do.
Owasso, City of, Tulsa County | 400210 | April 26, 1974, Emerg; July 2, 1981, Reg; August 3, 2009, Susp | ......do | Do.
Sand Springs, City of, Tulsa County | 400211 | August 5, 1974, Emerg; June 15, 1981, Reg; August 3, 2009, Susp | ......do | Do.
Skiatook, Town of, Tulsa County | 400212 | July 2, 1974, Emerg; July 16, 1980, Reg; August 3, 2009, Susp | ......do | Do.
Sperry, Town of, Tulsa County | 400213 | June 17, 1975, Emerg; July 16, 1981, Reg; August 3, 2009, Susp | ......do | Do.
Tulsa, City of, Tulsa County | 405381 | November 20, 1970, Emerg; August 13, 1971, Reg; August 3, 2009, Susp | ......do | Do.
Tulsa County, Unincorporated Areas | 400462 | April 21, 1975, Emerg; September 16, 1982, Reg; August 3, 2009, Susp | ......do | Do.
Region VII
Iowa:
Delhi, City of, Delaware County | 190566 | December 17, 1999, Emerg; NA, Reg; August 3, 2009, Susp | ......do | Do.
Dundee, City of, Delaware County | 190363 | November 30, 1977, Emerg; August 1, 1986, Reg; August 3, 2009, Susp | ......do | Do.
Hopkinton, City of, Delaware County | 190364 | February 12, 1982, Emerg; July 2, 1987, Reg; August 3, 2009, Susp | ......do | Do.
Manchester, City of, Delaware County | 190112 | April 25, 1975, Emerg; October 15, 1982, Reg; August 3, 2009, Susp | ......do | Do.
Masonville, City of, Delaware County | 190365 | October 28, 1993, Emerg; July 1, 1997, Reg; August 3, 2009, Susp | ......do | Do.
Ryan, City of, Delaware County | 190801 | April 26, 2005, Emerg; NA, Reg; August 3, 2009, Susp | ......do | Do.
Kansas:
DeSoto, City of, Johnson County | 200161 | May 16, 1975, Emerg; August 1, 1979, Reg; August 3, 2009, Susp | ......do | Do.
Edgerton, City of, Johnson County | 200162 | January 12, 1976, Emerg; August 1, 1979, Reg; August 3, 2009, Susp | ......do | Do.
Gardner, City of, Johnson County | 200164 | June 25, 1975, Emerg; April 15, 1977, Reg; August 3, 2009, Susp | ......do | Do.
Johnson County, Unincorporated Areas | 200159 | September 17, 1979, Emerg; August 15, 1980, Reg; August 3, 2009, Susp | ......do | Do.
Leawood, City of, Johnson County | 200167 | September 1, 1972, Emerg; September 30, 1977, Reg; August 3, 2009, Susp | ......do | Do.
Lenexa, City of, Johnson County | 200168 | June 12, 1975, Emerg; August 1, 1977, Reg; August 3, 2009, Susp | ......do | Do.
Merriam, City of, Johnson County | 200169 | April 14, 1975, Emerg; May 15, 1978, Reg; August 3, 2009, Susp | ......do | Do.
Olathe, City of, Johnson County | 200173 | January 19, 1973, Emerg; November 15, 1978, Reg; August 3, 2009, Susp | ......do | Do.
Overland Park, City of, Johnson County | 200174 | September 8, 1972, Emerg; September 30, 1977, Reg; August 3, 2009, Susp | ......do | Do.
Roeland Park, City of, Johnson County | 200176 | November 7, 1975, Emerg; June 30, 1976, Reg; August 3, 2009, Susp | ......do | Do.
Shawnee, City of, Johnson County | 200177 | February 24, 1975, Emerg; November 15, 1978, Reg; August 3, 2009, Susp | ......do | Do.
Region IX
California:
Alameda, City of, Alameda County | 060002 | June 26, 1975, Emerg; August 1, 1978, Reg; August 3, 2009, Susp | ......do | Do.
Berkeley, City of, Alameda County | 060004 | October 22, 1971, Emerg; September 1, 1978, Reg; August 3, 2009, Susp | ......do | Do.
Newark, City of, Alameda County | 060009 | April 22, 1974, Emerg; December 1, 1978, Reg; August 3, 2009, Susp | ......do | Do.
Oakland, City of, Alameda County | 065048 | December 4, 1970, Emerg; September 30, 1982, Reg; August 3, 2009, Susp | ......do | Do.
*-do- =Ditto.
Code for reading third column: Emerg.—Emergency; Reg.—Regular; Susp.—Suspension.

Deborah Ingram,
Acting Deputy Assistant Administrator for Mitigation, Mitigation Directorate, Department of Homeland Security, Federal Emergency Management Agency.

[FR Doc. E9-18406 Filed 7-31-09; 8:45 am]

BILLING CODE 9110-12-P